DEPARTMENT OF HOMELAND SECURITY

Coast Guard

46 CFR Parts 401, 403, and 404

[USCG-2015-0497; 1625-AC22]

Great Lakes Pilotage Rates—2016 Annual Review and Changes to Methodology

AGENCY: Coast Guard, DHS.

ACTION: Notice of proposed rulemaking; extension of public comment period.

SUMMARY: The Coast Guard is extending, for 30 days, the period for submitting public comments on the notice of proposed rulemaking (NPRM). The extension responds to a request made by several members of the public.

DATES: The comment period for the NPRM published on September 10, 2015 (80 FR 54484) is extended. Comments and related material must be submitted to the docket by December 9, 2015.

ADDRESSES: You may submit comments identified by docket number USCG-2015-0497 using the Federal eRulemaking Portal at http://www.regulations.gov. See the “Public Participation and Request for Comments” portion of the SUPPLEMENTARY INFORMATION section for further instructions on submitting comments.

FOR FURTHER INFORMATION CONTACT: If you have questions on this proposed rule, call or email Mr. Todd Haviland, Director, Great Lakes Pilotage, Commandant (CG-WWM-2), Coast Guard; telephone 202-372-2037, email Todd.A.Haviland@uscg.mil, or fax 202-372-1914.

SUPPLEMENTARY INFORMATION:

A. Public Participation and Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

B. Regulatory History and Information

We published the NPRM for this rulemaking on September 10, 2015 (80 FR 54484). It proposed changes to the methodology by which the Coast Guard reviews and adjusts rates for Great Lakes pilotage, and also proposed rates for the 2016 shipping season. The NPRM announced a 60 day public comment period ending November 9, 2015. We have received a request from several members of the public for an extension of the comment period, which we have decided to grant in light of the importance of our proposed changes to the ratemaking methodology. With this extension, the total length of the public comment period will now be 90 days.

This notice is issued under authority of 5 U.S.C. 552(a).

November 5, 2015.
Gary C. Rasicot,
Director, Marine Transportation Systems, U.S. Coast Guard.

[FR Doc. 2015-28590 Filed 11-5-15; 4:15 pm]

BILLING CODE 9110-04-P